DEPARTMENT OF JUSTICE

Notice of Lodging of Amended Consent Decree Under the Clean Air Act

In accordance with 28 CFR 50.7, notice is hereby given that on January 21, 2003, a proposed “Consent Decree in United States v. Dominick's Finer Foods, L.L.C., Civil Action No. 04C 0471, was lodged with the United States District Court for the Northern District of Illinois.

In a Complaint filed simultaneously with the lodging of the proposed Consent Decree, the United States sought injunctive relief and civil penalties for violations of the commercial refrigerant repair, recordkeeping, and reporting regulations at 40 CFR 82.152-82.166 (Recycling and Emission Reduction) promulgated by the Environmental Protection Agency (“EPA”) under Subchapter VI of the Act (Stratospheric Ozone Protection, 42 U.S.C. 7671-7671q, at some or all of the twenty-nine Dominick's stores listed in the Complaint, which are in or near Chicago, Illinois. In the proposed Consent Decree, Dominick's agrees to (1) replace or retrofit all commercial refrigeration units (units having a charge of more than 50 pounds of refrigerant) in the twenty-nine stores within two years to use only non-ozone depleting refrigerants; (2) in all stores that it constructs in the future, use only non-ozone depleting refrigerant systems; (3) participate in an EPA study of refrigeration systems in the food industry; and (4) pay a civil penalty of $85,000 to the United States.

The Department of Justice will receive comments relating to the proposed Consent Decree for a period of thirty (30) days from the date of this publication. Comments should be addressed to the Assistant Attorney General, Environment and Natural Resources Division, P.O. Box 7611, U.S. Department of Justice, Washington, DC 20044-7611, and should refer to: United States v. Dominick's Finer foods, L.L.C., D.J. Ref. 90-5-2-1-07951.

The Consent Decree may be examined at the Office of the United States Attorney for the Northern District of Illinois, 219 South Dearborn Street, Chicago, Illinois 60604, and at U.S. EPA Region 5, 77 West Jackson Blvd., Chicago, IL 60604. During the public comment period the proposed Consent Decree may also be examined on the following Department of Justice Web site, http://www.usdoj.gov/enrd/open.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $6.50 (25 cents per page reproduction cost) payable to the U.S. Treasury.

William D. Brighton,
Assistant Chief, Environmental Enforcement Section, Environment and Natural Resources Division.

[FR Doc. 04-2317 Filed 2-4-04; 8:45 am]

BILLING CODE 4410-15-M